DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet above ground. * Elevation in feet (NGVD) + Elevation in feet (NAVD) Modified
Pinal County, Arizona and Incorporated Areas
Docket No.: FEMA-B-7454
Arizona | Pinal County (Unincorporated Areas) | McClellan Wash | Approximately 0.61 mile west of Battagila Drive | +1,566
|  |  | Approximately 6.8 miles upstream of confluence with McClellan Wash Split | +1,824
| City of Eloy | Santa Cruz Wash | Approximately 0.72 mile west of Ethington Road | +1,382
|  |  | Approximately 1,000 feet south of Shedd Road | +1,440
| City of Eloy | Santa Rosa Canal | Approximately 400 feet west of Henness Road | +1,481
|  |  | Approximately 222 feet east of Toltec Highway | +1,528
| City of Casa Grande | North Branch Santa Cruz Wash | Approximately 0.86 mile west of Thornton Road | +1,363
|  |  | Approximately 1.85 miles east of Peart Road | +1,409
| City of Casa Grande | Arizola Drain | Approximately 0.64 mile west of Cox Road | +1,407
|  |  | Approximately 5.02 miles above confluence with North Branch Santa Cruz Wash | +1,453
#Depth in feet above ground.
*National Geodetic Vertical Datum.
+North American Vertical Datum.
ADDRESSES
Pinal County (Unincorporated Areas)
Maps are available for inspection at: 140 N. Florence Street, Florence, AZ 85232.
City of Casa Grande
Maps are available for inspection at: The City Hall 510 E. Florence Blvd., Casa Grande, AZ 85222.
City of Eloy
Maps are available for inspection at: City Hall 628 N. Main St., Eloy, AZ 85231 or the City Library at: 100 E. 7th St., Eloy, AZ 85231.
Pinal County, Arizona and Incorporated Areas
Docket No. FEMA B-7456
Arizona | Pinal County (Unincorporated Areas), City of Casa Grande | Arizola Drain | Shallow Flooding Area—Between I-10/SR-84 Interchange to confluence with North Santa Cruz Wash | #1
#Depth in feet above ground.
*National Geodetic Vertical Datum.
+North American Vertical Datum.
ADDRESSES
City of Casa Grande
Maps are available for inspection at: The City Hall 510 E. Florence Blvd., Casa Grande, AZ 85222.

State | City/town/county | Source of flooding | Location | # Depth in feet above ground. * Elevation in feet (NGVD) + Elevation in feet (NAVD)
City of Eureka, Utah
Docket No.: FEMA-B-7454
Utah | City of Eureka | Eureka Gulch | Approximately 0.52 mile downstream of Church Street | +6,303
|  |  | Approximately 550 feet upstream of Bulk Plant Road | +6,571
#Depth in feet above ground.
*National Geodetic Vertical Datum.
+North American Vertical Datum.
ADDRESSES
City of Eureka
Maps are available for inspection at the office of the Chief Executive Officer at City Hall, 15 North Church Street, Eureka, UT 84628.
City of Eureka, Utah
Docket No.: FEMA-B-7473
Utah | City of Eureka | Eureka Gulch | Approximately 0.30 miles downstream of Church Street | +6,306
|  |  | Approximately 830 feet upstream of Church Street | +6,396
| City of Eureka | Eureka Gulch | Approximately 490 feet upstream of Spring Street | +6,528
|  |  | Approximately 425 feet upstream of Bulk Plant Road | +6,569
# Depth in feet above ground.
* National Geodetic Vertical Datum.
+ North American Vertical Datum.
ADDRESSES
City of Eureka
Maps are available for inspection at: City Hall, 15 North Church Street, Eureka, Utah.

Flooding source(s) | Location of referenced elevation | * Elevation in feet (NGVD) + Elevation in feet (NAVD) # Depth in feet above ground Modified | Communities affected
Gila County, Arizona and Incorporated Areas
Docket No.: FEMA-B-7456
Bar X Wash | Shallow Flooding—North side of Bar X Wash approximately 1059 feet above confluence with Tonto Creek at Roosevelt Lake to approximately 634 feet above confluence with Tonto Creek at Roosevelt Lake | #1 | Gila County (Unincorporated Areas).
| Shallow Flooding—North side of Bar X Wash approximately 1059 feet above confluence with Tonto Creek at Roosevelt Lake to approximately 634 feet above confluence with Tonto Creek at Roosevelt Lake | #1
| Shallow Flooding—Approximately 1.02 miles above confluence with Tonto Creek at Roosevelt Lake to approximately 1.01 miles above confluence with Roosevelt Lake | #2
Butcher Hook | Shallow Flooding—North side of Butcher Hook approximately 1772 feet above confluence with Tonto Creek at Roosevelt Lake to approximately 922 feet above confluence with Tonto Creek at Roosevelt Lake | #1 | Gila County (Unincorporated Areas).
| Shallow Flooding—North side of Butcher Hook approximately 0.39 mile above confluence with Tonto Creek at Roosevelt Lake to approximately 1772 feet above confluence with Tonto Creek at Roosevelt Lake | #1
| Shallow Flooding—South side of Butcher Hook approximately 0.45 mile above confluence with Tonto Creek at Roosevelt Lake to approximately 0.39 mile above confluence with Tonto Creek at Roosevelt Lake | #1
| Shallow Flooding—North side of Butcher Hook approximately 1772 feet above confluence with Tonto Creek at Roosevelt Lake to approximately 1247 feet above confluence with Tonto Creek at Roosevelt Lake | #2
Chalk Springs Creek | Shallow Flooding—Approximately 1.25 miles above confluence with Tonto Creek at Roosevelt Lake to approximately 1.02 miles above confluence with Tonto Creek at Roosevelt Lake | #1 | Gila County (Unincorporated Areas).
| Shallow Flooding—Approximately 1.01 miles above confluence with Tonto Creek at Roosevelt Lake to 0.96 mile above confluence with Tonto Creek at Roosevelt Lake | #1
South Oak Creek | Shallow Flooding—Approximately 0.84 mile above confluence with Tonto Creek at Roosevelt Lake to approximately 0.99 mile above confluence with Tonto Creek at Roosevelt Lake | #1 | Gila County (Unincorporated Areas).
Walnut Creek | Shallow Flooding—Approximately 0.52 mile above confluence with Tonto Creek at Roosevelt Lake to approximately 0.44 mile above confluence with Tonto Creek at Roosevelt Lake | #1 | Gila County (Unincorporated Areas).
Bar X Wash | Approximately 645 feet upstream of confluence with Tonto Creek at Roosevelt Lake | +2237 | Gila County (Unincorporated Areas).
| Approximately 182 feet west of State Route 188 | +2282
Butcher Hook | Approximately 920 feet upstream of confluence with Tonto Creek at Roosevelt Lake | +2242 | Gila County (Unincorporated Areas).
| Approximately 517 feet west of State Route 188 | +2294
Chalk Springs Creek | Approximately 0.50 mile upstream of confluence with Tonto Creek at Roosevelt Lake | +2277 | Gila County (Unincorporated Areas).
| Approximately 894 feet west of Earl Road | +2389
Haystack Butte | Approximately 0.54 mile upstream of confluence with Tonto Creek at Roosevelt Lake | +2308 | Gila County (Unincorporated Areas).
| Approximately 675 feet west of Rio Salada Lane | +2416
Lambing Creek | Approximately 0.44 mile upstream of confluence with Tonto Creek at Roosevelt Lake | +2322 | Gila County (Unincorporated Areas).
| Approximately 0.89 mile upstream of confluence with Tonto Creek at Roosevelt Lake | +2377
Landing Creek | Approximately 222 feet east of Shereeve Lane | +2284 | Gila County (Unincorporated Areas).
| Approximately 846 feet west of State Route 188 | +2362
Park Creek | Approximately 526 feet upstream of confluence with Tonto Creek at Roosevelt Lake | +2312 | Gila County (Unincorporated Areas).
| Approximately 289 feet west of State Route 188 | +2361
Reno Creek | Approximately 1455 feet upstream of confluence with Tonto Creek at Roosevelt Lake | +2319 | Gila County (Unincorporated Areas).
| Approximately 757 feet west of State Route 188 | +2356
South Oak Creek | Approximately 0.44 mile upstream of confluence with Tonto Creek at Roosevelt Lake | +2221 | Gila County (Unincorporated Areas).
| Approximately 1.00 mile upstream of confluence with Tonto Creek at Roosevelt Lake | +2288
Sycamore Creek | Approximately 0.84 mile upstream of confluence with Tonto Creek at Roosevelt Lake | +2224 | Gila County (Unincorporated Areas).
| Approximately 490 feet west of State Route 188 | +2286
Sycamore Creek Split Flow | Approximately 0.48 mile upstream of confluence with Tonto Creek at Roosevelt Lake | +2213 | Gila County (Unincorporated Areas).
| Approximately 0.65 mile upstream of confluence with Tonto Creek at Roosevelt Lake | +2222
Tonto Creek at Roosevelt Lake | Approximately 11.12 miles above Roosevelt Dam | +2171 | Gila County (Unincorporated Areas).
| Approximately 2.2 miles upstream of Reno Creek | +2373
Walnut Creek | Approximately 1364 feet upstream of confluence with Tonto Creek at Roosevelt Lake | +2270 | Gila County (Unincorporated Areas).
| Approximately 505 feet west of Walnut Springs Road | +2346
# Depth in feet above ground.
* National Geodetic Vertical Datum.
+ North American Vertical Datum.
ADDRESSES
Gila County (Unincorporated Areas)
Maps available for inspection at: 1400 E. Ash Street, Globe, AZ 85501 or 714 S. Beeline Highway, Suite 200, Payson, AZ 85541.
Eagle County, Colorado and Incorporated Areas
Docket Nos.: FEMA-B-7439 and FEMA-B-7464
Bighorn Creek | At confluence with Gore Creek | +8,431 | Town of Vail.
| Approximately 350 feet upstream of Columbine Drive | +8,639
Black Gore Creek | At confluence with Lower Gore Creek | +8,575 | Town of Vail.
| Approximately 1,280 feet upstream of confluence with Lower Gore Creek | +8,628
Booth Creek | At confluence with Gore Creek | +8,296 | Town of Vail.
| Approximately 1,300 feet upstream of interstate Highway 70 | +8,392
Buffehr Creek | At confluence with Gore Creek | +7,956 | Town of Vail, Eagle County (Unincorporated Areas).
| Approximately 1,700 feet upstream of Circle Drive | +8,180
Colorado River | At Garfield County and Eagle County corporate limit | +6131 | Eagle County (Unincorporated Areas).
| Approximately 200 feet downstream of Interstate 70 | +6145
Eagle River | Approximately 500 feet downstream of U.S. Highway 6 | +6,277 | Town of Gypsum Eagle County Unincorporated Areas).
| Just downstream of confluence with Brush Creek | +6,502
East Mill Creek | At confluence with Gore Creek | +8,175 | Town of Vail, Eagle County (Unincorporated Areas).
| Just upstream of Vail Road | +8,292
Gore Creek | Just upstream of confluence with Eagle River | +7,728 | Town of Vail, Eagle County (Unincorporated Areas).
| At confluence with Upper and Lower Gore Creeks | +8,561
Lower Gore Creek | At confluence with Gore Creek | +8,561 | Town of Vail, Eagle County (Unincorporated Areas).
| At Divergence from Upper Gore Creek | +8,610
Middle Creek | At confluence with Gore Creek | +8,118 | Town of Vail.
| Approximately 850 feet upstream of Interstate Highway 70 | +8,335
Pitkin Creek | At confluence with Gore Creek | +8,366 | Town of Vail.
| Approximately 200 feet upstream of Fall Line Drive | +8,454
Red Sandstone Creek | At confluence with Gore Creek | +8,078 | Town of Vail.
| Just upstream of Potato Patch Drive | +8,254
Roaring Fork River | At Eagle County/Garfield County boundary | +6,380 | Town of Basalt, Eagle County (Unincorporated Areas).
| Just downstream of Emma Road | +6,600
South Side Split Flow | At confluence with Roaring Fork River | +6,553 | Town of Basalt, Eagle County (Unincorporated Areas).
| Approximately 1,200 feet downstream of State Highway 82 Bypass | +6,563
Spraddle Creek | At confluence with Gore Creek | +8,138 | Town of Vail.
| Approximately 1,150 feet upstream of Interstate Highway 70 | +8,274
Upper Gore Creek | At confluence with Gore Creek | +8,562 | Town of Vail, Eagle County (Unincorporated Areas).
| Approximately 1,000 feet upstream of Interstate Highway 70 westbound | +8,682
West Mill Creek | Just downstream of Gore Drive | +8,165 | Town of Vail, Eagle County (Unincorporated Areas).
| Just upstream of Vail Road | +8,292
# Depth in feet above ground.
* National Geodetic Datum.
+ National American Vertical Datum.
ADDRESSES
Town of Basalt
Maps are available for inspection at the Town Hall, 101 Midland Avenue, Basalt, Colorado 81621.
Eagle County (Unincorporated Areas)
Maps are available for inspection at 500 Broadway Street, Eagle, Colorado 81631.
Town of Gypsum:
Maps are available for inspection at 50 Lundgren Boulevard, Gypsum, Colorado 81637.
Town of Vail
Maps are available for inspection at the Community Development Office, 75 South Frontage Road, Vail, Colorado 81657.
Eagle County, Colorado, and Incorporated Areas
Docket No.: B-7704
Eagle River | Just upstream of the confluence with the Colorado River | +6,144 | Eagle County, (Unincorporated Areas), Town of Avon, Town of Eagle, Town of Gypsum, Town of Minturn.
| Approximately 1,040 feet downstream of the confluence with Two Elk Creek | +7,989
* National Geodetic Vertical Datum.
# Depth in feet above ground.
+ North American Vertical Datum.
ADDRESSES
Eagle County (Unincorporated Areas)
Maps are available for inspection at the Eagle County Building, 500 Broadway Street, Eagle, Colorado 81631.
Town of Avon
Maps are available for inspection at Avon Municipal Complex, 400 Benchmack Road, Avon, CO 81620.
Town of Eagle Q02
Maps are available for inspection at Town Hall, Town of Eagle, 200 Broadway, Eagle, CO 81631.
Town of Gypsum
Maps are available for inspection at Town Hall, Town of Gypsum, 50 Lundgren Boulevard, Gypsum, CO 81637.
Town of Minturn
Map are available for inspection at Town Office, Town of Minturn, 302 Pine Street, Minturn, CO 81645.
Hancock County, Indiana and Incorporated Areas
Docket No: FEMA-B-7704
Bills Branch | At East 96th Street | +790 | Town of McCordsville.
| Approximately 400 feet upstream of North Wind River Run | +838
Brandywine Creek | Approximately 6,000 feet downstream of County Road 500 South | +831 | City of Greenfield, Hancock County (Unincorporated Areas).
| Approximately 790 feet upstream of County Road 400 North | +887
Briney Ditch | At the confluence with Little Brandywine Creek | +859 | Hancock County (Unincorporated Areas).
| Approximately 2,170 feet upstream of Interstate Highway 40 | +895
Dry Branch | At County Road 700 West | +831 | Town of McCordsville, Hancock County (Unincorporated Areas).
| Approximately 1,580 feet upstream of County Road 500 West | +858
Jackson Ditch | Approximately 1,190 feet downstream of West Staat Street | +845 | Town of Fortville, Hancock County (Unincorporated Areas).
| Approximately 600 feet upstream of County Road 200 West | +857
Jackson Arm Ditch | At the confluence with Jackson Ditch | +856 | Hancock County (Unincorporated Areas).
| Approximately 2,010 feet upstream of West 850 North | +865
Little Brandywine Creek | At Steel Ford Road | +856 | City of Greenfield, Hancock County (Unincorporated Areas).
| Approximately 230 feet upstream of County Road 300 North | +911
North Fork | At County Road 700 West | +820 | Town of McCordsville, Hancock County (Unincorporated Areas).
| Approximately 1,170 feet upstream of County Road 900 North | +853
Putter Ditch | At the confluence with Brandywine Creek | +861 | City of Greenfield.
| Approximately 695 feet upstream of the confluence with Brandywine Creek | +861
Rash Ditch | At the confluence with Jackson Ditch | +855 | Hancock County (Unincorporated Areas).
| Just upstream of Meridian Road | +866
Stansbury Ditch | At the confluence with Dry Branch | +843 | Town of McCordsville, Hancock County (Unincorporated Areas).
| Approximately 4,610 feet upstream of County Road 700 North | +861
West Fork Bills Branch | At the confluence with Bills Branch | +796 | Town of McCordsville.
| Approximately 2,005 feet upstream of Cardinal Drive | +821
* National Geodetic Vertical Datum.
# Depth in feet above ground.
+ North American Vertical Datum.
ADDRESSES
Town of Fortville
Maps are available for inspection at Courthouse Annex, 111 South American Legion Place, Greenfield, Indiana 46140.
Town of Greenfield
Maps are available for inspection at 10 South State Street, Greenfield, Indiana 46140.
Hancock County (Unincorporated Areas)
Maps are available for inspection at Courthouse Annex, 111 South American Legion Place, Greenfield, Indiana 46140.
Town of McCordsville
Maps are available for inspection at 9175 Stormy Port, McCordsville, Indiana 46055.
Clark County, Nevada, and Incorporated Areas
Docket No.: FEMA-B-7708
Virgin River | 5.0 miles downstream of the confluence of Pulsipher Wash | +1473 | Clark County (Unincorporated Areas), City of Mesquite.
| 0.5 miles upstream of the confluence of the Virgin River Avulsion | +1597
Virgin River Avulsion | 0.3 miles upstream of the confluence with the Virgin River | +1591 | City of Mesquite.
| 0.8 miles upstream of the confluence with the Virgin River | +1598
* National Geodetic Vertical Datum.
# Depth in feet above ground.
+ North American Vertical Datum.
ADDRESSES
City of Mesquite
Maps are available for inspection at Office of the City Engineer, 10 E. Mesquite Boulevard, Mesquite, NV 89027.
Clark County (Unincorporated Areas)
Maps are available for inspection at Office of the Director of Public Works, 500 Grand Central Pky, Las Vegas, NV 89155.
Ozaukee County, Wisconsin, and Incorporated Areas
Docket No.: FEMA-B-747
Canyon Creek | At mouth of Lake Michigan | *5901 | City of Port Washington, Ozaukee County (Unincorporated Areas).
| At intersection of Interstate 43 | *701
Cedar Creek | At mouth at Milwaukee River | *679 | City of Cedarburg, Village of Grafton, Ozaukee County (Unincorporated Areas).
| 6450 feet upstream of County Highway Y | *836
Fredonia Creek | At mouth at Milwaukee River | ¹*781 | Village of Fredonia, Ozaukee County (Unincorporated Areas).
| 2500 feet upstream from County Highway D | *831
Milwaukee River | At County Line Road | *653 | Village of Thiensville, City of Mequon, Village of Grafton, Village of Saukville, Village of Fredonia, Village of Newburg, Ozaukee County (Unincorporated Areas).
| Downstream of northern crossing of Riverside Road | *798
| Upstream of south crossing of Riverside Road | *805
| Downstream of Hickory Road | *835
Mineral Springs | At mouth at Sauk Creek | ¹*590 | City of Port Washington.
| 300 feet upstream from State Highway 32 | *719
Mole Creek | At mouth at Milwaukee River | ¹*746 | Village of Grafton, Ozaukee County (Unincorporated Areas).
| 600 feet upstream of Center Road | *818
North Branch of Milwaukee River | At mouth at Milwaukee River | *798 | Ozaukee County (Unincorporated Areas).
| Downstream of northern crossing of Riverside Road | *799
Pigeon Creek | At mouth at Milwaukee River approximately 100 feet downstream from Green Bay Road | ¹*660 | Village of Thiensville, City of Mequon
| 1900 feet upstream of Highland Road | *732
Sauk Creek | At mouth of Lake Michigan | *590 | City of Port Washington, Village of Belgium, Ozaukee County (Unincorporated Areas).
| 2000 feet upstream of County Highway KK | *796
Ulao Creek | At mouth at Milwaukee River | ¹ *664 | City of Mequon,Village of Grafton, Ozaukee County, (Unincorporated Areas).
| 2300 feet upstream of State Highway 32 | *744
Un-named Tributary #1 to Belgium Holland Drainage Ditch | At intersection with County Highway K | *720 | Village of Belgium, Ozaukee County, (Unincorporated Areas).
| 100 feet downstream of Park Street | *731
Overflow #1 | At the downstream confluence of Un-named Tributary #1 to Belgium Holland Drainage Ditch | *723 | Ozaukee County (Unincorporated Areas).
| At the upstream overflow from Un-named Tributary #1 to Belgium Holland Drainage Ditch (750 feet downstream of Park St) | *724
Overflow #2 | At the confluence of Un-Named Tributary #1 to Belgium Holland Drainage Ditch | *730 | Village of Belgium, Ozaukee County (Unincorporated Areas).
| At the upstream overflow from Un-named Tributary #1 to Belgium Holland Drainage Ditch (2750 feet downstream of Jay Rd) | *730
Un-named Tributary #1 to Milwaukee River | At mouth of the Milwaukee River | ¹*758 | Village of Saukville.
| 1690 feet upstream of Dekora Woods Boulevard | *775
Un-named Tributary #1 to Ulao Creek | At mouth of Ulao Creek | *664 | City of Mequon.
| 1700 feet upstream of County Highway W | *673
Un-named Tributary to Un-named Tributary #1 to Ulao Creek | At mouth of Un-named Tributary #1 to Ulao Creek | *664 | City of Mequon.
| 6750 feet upstream of Interstate 43 | *673
Un-named Tributary #2 to Pigeon Creek | At mouth of Pigeon Creek | *623 | City of Mequon, City of Cedarburg, Ozaukee County (Unincorporated Areas).
| 2300 feet upstream of State Highway 181 | *806
Un-named Tributary #3 to Milwaukee River | 200 feet downstream of Wheeler Avenue | *791 | Village of Fredonia.
| 500 feet upstream of Meadowbrook Drive | *798
* National Geodetic Vertical Datum.
# Depth in feet above ground.
+ North American Vertical Datum.
¹Flood Elevation based on Backwater.
ADDRESSES
Village of Belgium
Maps are available for inspection at 195 Commerce St, Belgium, WI 53004-0224.
City of Cedarburg
Maps are available for inspection at W63 N645 Washington Avenue, Cedarburg, WI 53012-0049.
Village of Fredonia
Maps are available for inspection at Village Hall, 416 Fredonia Ave, Fredonia, WI 53021.
Village of Grafton
Maps are available for inspection at Village Hall—Thomas Johnson, 1971 Washington St., Grafton, WI 53024.
City of Mequon
Maps are available for inspection at 11333 N. Cedarburg Road, Mequon, WI 53092.
Village of Newburg
Maps are available for inspection at Village Hall, 614 Main St., Newburg, WI 53060.
Unincorporated Areas of Ozaukee County
Maps are available for inspection at Planning, Resources, and Land Management Department 121 West Main Street, P.O. Box 994, Port Washington, WI 53704-0994.
City of Port Washington
Maps are available for inspection at Office of Planning and Development, 100 W. Grand Avenue Port Washington, WI 53074.
Village of Saukville
Maps are available for inspection at Planning Department, 639 East Green Bay Ave., Saukville, WI 53080.
Village of Thiensville
Maps are available for inspection at 250 Elm Street, Thiensville, WI 53092.

(Catalog of Federal Domestic Assistance No. 97.022, “Flood Insurance.”)

Dated: June 18, 2007.
David I. Maurstad,
Federal Insurance Administrator of the National Flood Insurance Program, Federal Emergency Management Agency, Department of Homeland Security.

[FR Doc. E7-12698 Filed 6-29-07; 8:45 am]

BILLING CODE 9110-12-P